FEDERAL MEDIATION AND CONCILIATION SERVICE

Request for Arbitration Panel

AGENCY: Federal Mediation and Conciliation Service (FMCS).

ACTION: 60-Day notice and request for comments.

SUMMARY: The Federal Mediation and Conciliation Service (FMCS), invites the general public and other Federal Agencies to take this opportunity to comment on the following information collection request, Request for Arbitration Panel, (FMCS Form R-43). This information collection request was previously approved by the Office of Management Budget (OMB) and FMCS is requesting a revision of a currently approved collection. The Request for Arbitration Panel, (FMCS Form R-43), allows FMCS to comply with its statutory obligation pursuant to the statute to make governmental facilities available for voluntary arbitration. To carry out this policy, FMCS have issued regulations which provide for the operation and maintenance of a roster of professional arbitrators. The arbitrators are private citizens, not employees of FMCS, and are paid by the parties for hearing and deciding the issues submitted under a collective bargaining agreement and in other circumstances. The Request for Arbitration Panel (FMCS Form R-43) is used by the parties, labor and management individually or jointly, to request that FMCS furnish a list of arbitrators.

DATES: Comments must be submitted on or before September 26, 2022.

ADDRESSES: You may submit comments, identified by the Request for Arbitration Panel (FMCS Form R-43), through one of the following methods:

• Email: Arthur Pearlstein, apearlstein@fmcs.gov;

• Mail: Arthur Pearlstein, HQ Office of Arbitration, One Independence Square, 250 E St. SW, Washington, DC 20427. Please note that at this time, mail is sometimes delayed. Therefore, we encourage emailed comments.

FOR FURTHER INFORMATION CONTACT: Arthur Pearlstein, 202-606-8103, apearlstein@fmcs.gov.

SUPPLEMENTARY INFORMATION: Copies of the agency form are available here. Paper copies are available from the Office of Arbitration Services by emailing Arthur Pearlstein at the email address above. Please ask for the Request for Arbitration Panel (FMCS Form R-43).

I. Information Collection Request

Agency: Federal Mediation and Conciliation Service.

Form Number: OMB No. 3076-0016.

Type of Request: Revision of a currently approved collection.

Affected Entities: Individual who request a list of arbitrators.

Frequency: In most instances, this form is completed once.

Abstract: Title II of the Labor Management Relations Act of 1947, 29 U.S.C. 171(b), provides that “the settlement of issues between employers and employees through collective bargaining may advance by making available full and adequate governmental facilities for conciliation, mediation, and voluntary arbitration . . .” 29 U.S.C. 171(b). Pursuant to the statute and 29 CFR part 1404, FMCS has long maintained a roster of qualified, private labor arbitrators to hear disputes arising under collective bargaining agreements and provide fact finding and interest arbitration. The purpose of this information collection is to facilitate the processing of the parties' request for arbitration assistance.

Burden: The number of respondents is approximately 11,000 individuals per year. The time required to complete this form is approximately ten minutes.

II. Request for Comments

FMCS solicits comments to:

i. Evaluate whether the proposed collections of information are necessary for the proper performance of the functions of the agency, including whether the information will have practical utility.

ii. Enhance the accuracy of the agency's estimates of the burden of the proposed collection of information.

iii. Enhance the quality, utility, and clarity of the information to be collected.

iv. Minimize the burden of the collections of information on those who are to respond, including the use of appropriate automated, electronic collection technologies or other forms of information technology.

III. The Official Record

The official records are electronic records.

List of Subjects

Labor-Management Relations.

Dated: July 21, 2022.
Anna Davis,
Deputy General Counsel.

[FR Doc. 2022-15964 Filed 7-25-22; 8:45 am]

BILLING CODE 6732-01-P